FEDERAL ACCOUNTING STANDARDS ADVISORY BOARD

Notice of Appointment of New FASAB Member and Release of the Exposure Draft Regarding Deferral of the Transition of Long-Term Projections to Basic Information

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that Mr. Graylin E. Smith has been appointed to a five-year term as a member of the Federal Accounting Standards Advisory Board (FASAB) beginning July 16, 2012.

The Federal Accounting Standards Advisory Board (FASAB) also announces the release of the Exposure Draft Regarding Deferral of the Transition of Long-Term Projections to Basic Information.

The Exposure Draft is available on the FASAB home page http://www.fasab.gov/board-activities/documents-for-comment/exposure-drafts-and-documents-for-comment/. Copies can be obtained by contacting FASAB at (202) 512-7350.

Respondents are encouraged to comment on any part of the exposure draft. Written comments on the Exposure Draft are requested by January 31, 2013. Comments on the Exposure Drafts should be sent to: fasab@fasab.gov or Wendy M. Payne, Executive Director, Federal Accounting Standards Advisory Board, 441 G Street NW., Suite 6814, Mail Stop 6H19, Washington, DC 20548.

FOR FURTHER INFORMATION CONTACT: Wendy Payne, Executive Director, at (202) 512-7350.

Authority: Federal Advisory Committee Act, Pub. L. 92-463.

Dated: November 26, 2012.
Charles Jackson,
Federal Register Liaison Officer.

[FR Doc. 2012-28934 Filed 11-29-12; 8:45 am]

BILLING CODE 1610-02-P